DEPARTMENT OF TRANSPORTATION

Office of the Secretary

Notice of Applications for Certificates of Public Convenience and Necessity and Foreign Air Carrier Permits Filed Under Subpart B (Formerly Subpart Q) during the Week Ending February 28, 2003

The following applications for certificates of public convenience and necessity and foreign air carrier permits were filed under subpart B (formerly subpart Q) of the Department of Transportation's procedural regulations (See 14 CFR 301.201 et. seq.). The due date for answers, conforming applications, or motions to modify scope are set forth below for each application. Following the answer period DOT may process the application by expedited procedures. Such procedures may consist of the adoption of a show-cause order, a tentative order, or in appropriate cases a final order without further proceedings.

Docket Number: OST-2003-14579.

Date Filed: February 24, 2003.

Due Date for Answers, Conforming Applications, or Motion to Modify Scope: March 17, 2003.

Description: Application of Republic Airline Inc. d/b/a Republic Airlines, pursuant to 49 U.S.C. section 41102, parts 201 and 204 and subpart B, requesting a certificate of public convenience and necessity authorizing it to engage in interstate scheduled air transportation of persons, property, and mail.

Dorothy Y. Beard,
Chief, Docket Operations & Media Management, Federal Register Liaison.

[FR Doc. 03-5705 Filed 3-10-03; 8:45 am]

BILLING CODE 4910-62-P